DEPARTMENT OF JUSTICE

Office of Justice Programs

[OMB Number 1121-0184]

Agency Information Collection Activities; Proposed eCollection eComments Requested; Revision of Currently Approved Collection: 2017 School Crime Supplement (SCS) to the National Crime Victimization Survey (NCVS)

AGENCY: Bureau of Justice Statistics, Department of Justice.

ACTION: 30-Day notice.

SUMMARY: The Department of Justice (DOJ), Office of Justice Programs, Bureau of Justice Statistics, will be submitting the following information collection request to the Office of Management and Budget (OMB) for review and approval in accordance with the Paperwork Reduction Act of 1995. This proposed information collection was previously published in the Federal Register at 81 FR 42727, on June 30, 2016, allowing for a 60 day comment period.

DATES: Comments are encouraged and will be accepted for 30 days until October 6, 2016.

FOR FURTHER INFORMATION CONTACT: If you have additional comments especially on the estimated public burden or associated response time, suggestions, or need a copy of the proposed information collection instrument with instructions or additional information, please contact Rachel Morgan, Statistician, Bureau of Justice Statistics, 810 Seventh Street NW., Washington, DC 20531 (email: Rachel.Morgan@usdoj.gov; telephone: 202-616-1707). Written comments and/or suggestions can also be directed to the Office of Management and Budget, Office of Information and Regulatory Affairs, Attention Department of Justice Desk Officer, Washington, DC 20530 or sent to OIRA_submissions@omb.eop.gov.

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Overview of This Information Collection

(1). Type of Information Collection: Revision of currently approved collection.

(2). Title of the Form/Collection: School Crime Supplement to the National Crime Victimization Survey.

(3). Agency form number, if any, and the applicable component of the Department of Justice sponsoring the collection: The form number for the questionnaire is SCS-1. The applicable component within the Department of Justice is the Bureau of Justice Statistics, in the Office of Justice Programs.

(4). Affected public who will be asked or required to respond, as well as a brief abstract: The survey will be administered to persons ages 12 to 18 in NCVS sampled households in the United States. The SCS collects, analyzes, publishes, and disseminates statistics on the students' victimization, perceptions of school environment, and safety at school.

(5). An estimate of the total number of respondents and the amount of time estimated for an average respondent to respond: An estimate of the total number of respondents is 8,889 persons ages 12 to 18. Of the 8,889 SCS respondents, 86% or 7,645 will complete the long SCS interview (entire SCS questionnaire) which will take an estimated 15 minutes to complete. The remaining 14% or 1,244 SCS respondents will complete the short interview (i.e. will be screened out for not being in school), which will take an estimated 3 minutes to complete. Respondents will be asked to respond to this survey only once during the six month period. The burden estimates are based on data from the prior administration of the SCS.

(6). An estimate of the total public burden (in hours) associated with the collection: There are an estimated 1,973 total burden hours associated with this collection.

If additional information is required contact: Jerri Murray, Department Clearance Officer, United States Department of Justice, Justice Management Division, Policy and Planning Staff, Two Constitution Square, 145 N Street NE., 3E.405B, Washington, DC 20530.

Dated: August 31, 2016.
Jerri Murray,
Department Clearance Officer for PRA, U.S. Department of Justice.

[FR Doc. 2016-21299 Filed 9-2-16; 8:45 am]

BILLING CODE 4410-18-P